SURFACE TRANSPORTATION BOARD

[Docket No. FD 36070]

Kokomo Rail, LLC—Acquisition and Operation Exemption—Rail Line of Indian Creek Railroad Company

Kokomo Rail, LLC (KR), a Class III rail carrier, has filed a verified notice of exemption under 49 CFR 1150.41 to acquire and operate approximately 4.55 miles of rail line (the Line), from Indian Creek Railroad Company (ICRK).¹ According to KR's notice, the Line extends between a point of connection to Norfolk Southern Railway Company at or near Florida Station and the end of track northwest of Anderson, Ind., a distance of 4.55 miles in Madison County, Ind. The Line does not have milepost designations.

¹ KR filed the verified notice of exemption on October 27, 2016, a letter supplementing the record on November 7, 2016, and an amended verified notice on November 17, 2016.

KR states that in Kokomo Rail Co., Inc.—Acquisition and Operation Exemption—Rail Line of Indian Creek Railroad Company, FD 36054 (STB served Aug. 18, 2016), Kokomo Rail Co., Inc. (KRC) was authorized to acquire and operate ICRK's rail line. However, according to KR, KRC's corporate identity had been dissolved before that notice was filed. KR further states that KRC's authority to acquire and operate ICRK's rail was not consummated.

KR certifies that its projected annual revenues as a result of this transaction will not result in the creation of a Class II or Class I rail carrier, that its projected annual revenue will not exceed $5 million, and that the transaction does not involve any interchange commitments.

The earliest this transaction may be consummated is December 17, 2016, the effective date of the exemption (30 days after the amended verified notice of exemption was filed).

If the notice contains false or misleading information, the exemption is void ab initio. Petitions to revoke the exemption under 49 U.S.C. 10502(d) may be filed at any time. The filing of a petition to revoke will not automatically stay the transaction. Petitions for stay must be filed no later than December 9, 2016 (at least 7 days before the exemption becomes effective).

An original and 10 copies of all pleadings, referring to Docket No. FD 36070, must be filed with the Surface Transportation Board, 395 E Street SW., Washington, DC 20423-0001. In addition, a copy of each pleading must be served on Thomas F. McFarland, Thomas F. McFarland, P.C., 208 South LaSalle Street, Suite 1666, Chicago, IL 60604.

According to KR, this action is categorically excluded from environmental review under 49 CFR 1105.6(c).

Board decisions and notices are available on our Web site at WWW.STB.GOV.

Decided: November 25, 2016.
By the Board, Scott M. Zimmerman, Acting Director, Office of Proceedings.
Kenyatta Clay,
Clearance Clerk.

[FR Doc. 2016-28943 Filed 12-1-16; 8:45 am]

BILLING CODE 4915-01-P